DEPARTMENT OF AGRICULTURE

Submission for OMB Review; Comment Request

April 18, 2008.

The Department of Agriculture has submitted the following information collection requirement(s) to OMB for review and clearance under the Paperwork Reduction Act of 1995, Pub. L 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Report of Disaster Food Stamp Benefit Issuance and Report of Commodity Distribution for Disaster Relief.

OMB Control Number: 0584-0037.

Summary of Collection: The Emergency Food Stamp Assistance Program is authorized by the Disaster Relief Act of 1970; the Food Stamp Act, as amended; and Part 274 of the Food Stamp Program regulations. The Food and Nutrition Service (FNS) initiate this program in a food stamp project area when all or part of the area has been affected by a disaster. Food distribution in disaster situation is authorized under Section 32 of the Act of August 24, 1935. Surplus foods are made available by State distributing agencies for relief purposes to victims of natural disaster such as hurricanes, floods, tornadoes, etc. Distribution to these recipients is made primarily through such organizations as the American Red Cross or the Salvation Army. These organizations use surplus foods for both central feeding operations and for distribution to families in homes cut off from normal sources of food supply. Form FNS-292-A will be used by State distributing agencies to provide a summary report to the agency within 45 days following termination of the disaster assistance. Form FNS-292-B will be used by State welfare departments to report to FNS the number of households and persons who were certified for the Disaster Food Stamp Program, and also to report the value of benefits issued to those households.

Need and Use of the Information: FNS will collect information through the use of form FNS-292-A and B, which is used by the FNS Administrator, the Food Distribution Division, and the three Food Stamp Program divisions to monitor program activity, assess coverage provided to needy recipients, and assure the validity of requested commodity reimbursement and to prepare budget requests. If the information were not collected, FNS would be unable to monitor the issuance of food stamp benefits and the distribution of surplus foods during disaster situations.

Description of Respondents: State, Local, or Tribal Government.

Number of Respondents: 55.

Frequency of Responses: Recordkeeping; Reporting: On occasion.

Total Burden Hours: 46.

Food and Nutrition Service

Title: Child Nutrition Database.

OMB Control Number: 0584-0494.

Summary of Collection: The Child Nutrition (CN) Database is a necessary component in implementation of USDA's Food and Nutrition Service (FNS) National School Lunch Program (NSLP) and School Breakfast (SBP): School Meals Initiative for Healthy Children final rule published in the June 13, 1995 Federal Register, Volume 60, No. 113. The overriding purpose in NSLP and SBP initiatives is to serve more nutritious and healthful meals to school children. FNS updated the regulations which established the specific nutrition criteria for reimbursable school meals incorporating the Recommended Dietary Allowances (RDA) issued by the Food and Nutrition Board, Commission on Life Sciences, National Research Council for key nutrients, energy allowances for calories, and the most current nutritional standards as outlined in the Dietary Guidelines. FNS will collect information using a database that contains information on the nutritional composition.

Need and Use of the Information: FNS will collect information on (1) USDA commodities; (2) USDA Nutrient Database for Standard Reference food items which are used in the SBP and NSLP; (3) quantity recipes for school food service developed by USDA; and (4) brand name commercially processed foods. The information gathered for the CN Database is required to be used in software program approved by USDA for use in meeting the nutrient standards and nutrition goals of the Child Nutrition Program meal pattern. Both the States and program will use the information.

Description of Respondents: Business or other for-profit.

Number of Respondents: 32.

Frequency of Responses: Report: Other (as needed).

Total Burden Hours: 2,240.

Ruth Brown,
Departmental Information Collection Clearance Officer.

*BILLING CODE 3410-30

[FR Doc. E8-8791 Filed 4-25-08; 8:45 am]

BILLING CODE 3410-30-P